EXPORT-IMPORT BANK OF THE UNITED STATES

Economic Impact Policy

This notice is to inform the public that the Export-Import Bank of the United States has received an application to finance the export of approximately $766 million in U.S. semiconductor manufacturing equipment to a dedicated foundry in Singapore. The U.S. exports will enable the dedicated foundry to increase production by 15,000 300-mm (non-DRAM) wafers per month across advanced process technology nodes for Phase II of its existing Fabrication Plant 7. Available information indicates that this new production will be exported from Singapore and consumed globally. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E7-123 Filed 1-9-07; 8:45 am]

BILLING CODE 6690-01-P